DEPARTMENT OF JUSTICE

[OMB Number 1190-0021]

Agency Information Collection Activities; Proposed eCollection eComments Requested; Generic Clearance for Community Relations Service Program Impact Evaluation

AGENCY: Community Relations Service, Department of Justice.

ACTION: 30-Day notice.

SUMMARY: The Community Relations Service, Department of Justice (DOJ), will be submitting the following information collection request to the Office of Management and Budget (OMB) for review and approval in accordance with the Paperwork Reduction Act of 1995. The proposed information collection was previously published in the Federal Register on December 20, 2023, allowing a 60-day comment period.

DATES: Comments are encouraged and will be accepted for 30 days until March 29, 2024.

FOR FURTHER INFORMATION CONTACT: If you have comments especially on the estimated public burden or associated response time, suggestions, or need a copy of the proposed information collection instrument with instructions or additional information, please contact: Jordan Mathews, Community Relations Service, 145 N St. NE, Washington, DC 20002, 771-208-9190 or Jordan.M.Mathews@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1190-0021. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Generic Clearance for Community Relations Service Program Impact Evaluation.

3. Agency form number, if any, and the applicable component of the Department of Justice sponsoring the collection: Form numbers not available for generic clearance. The applicable component within the Department of Justice is the Community Relations Service.

4. Affected public who will be asked or required to respond, as well as a brief abstract: Affected Public: Participants of CRS programs in relevant jurisdictional fields; individuals; facilitators; state and local law enforcement, government officials, faith leaders, and community leaders; students; school administrators; and representatives of advocacy organizations.

Abstract: Over the next three years, CRS and its evaluation contractor, Mathematica, anticipate collecting program impact evaluation data for assessing ongoing programs across several areas within community outreach. The purpose of these collections is to gather feedback from participants who attended CRS programs and to use that information to assess the impact and outcomes of the programs. The work may entail redesigning and/or modifying existing programs based upon received feedback. CRS envisions using surveys, interviews, and other electronic data collection instruments. In this revision, CRS is requesting an increased level of burden from the previously approved collection to reflect including a larger number of programs in the assessment and collecting information at multiple time points for an individual program to assess change over time.

5. Obligation to Respond: The obligation to respond is voluntary.

6. Total Estimated Number of Respondents: 1,227.

7. Estimated Time per Respondent: The average time per response for surveys is 15 minutes, while the average time per response for interviews is 60 minutes.

8. Frequency: Once a year.

9. Total Estimated Annual Time Burden: 515 hours.

10. Total Estimated Annual Other Costs Burden: $28,100.

If additional information is required, contact: Darwin Arceo, Department Clearance Officer, Policy and Planning Staff, Justice Management Division, United States Department of Justice, Two Constitution Square, 145 N Street NE, 4W-218, Washington, DC 20530.

Darwin Arceo,
Department Clearance Officer for PRA, U.S. Department of Justice.

[FR Doc. 2024-04076 Filed 2-27-24; 8:45 am]

BILLING CODE 4410-17-P